DEPARTMENT OF THE INTERIOR

Bureau of Land Management

[NV-050-1430-ER]

Notice of Availability of the Draft Supplemental Environmental Impact Statement for the Flood Control Master Plan, Clark County Regional Flood Control District, NV

AGENCY: Bureau of Land Management, Interior.

Cooperating Agency: U.S. Army Corps of Engineers, Sacramento District.

ACTION: Notice of Availability of the Draft Supplemental Environmental Impact Statement (Draft SESIS) for the Flood Control Master Plan, Clark County Regional Flood Control District (CCRFCD).

SUMMARY: Pursuant to the National Environmental Policy Act of 1969 and the Federal Land Policy and Management Act of 1976, the Bureau of Land Management (BLM) has prepared a Draft SEIS of the Final Environmental Impact Statement for the Flood Control Master Plan, Clark County Regional Flood Control District, approved June 4, 1991, by record of Decision. This Draft SEIS was prepared to describe the potential environmental effects of construction and operation of flood control facilities encompassing private and public lands within in the Las Vegas Valley and Boulder City by the Clark County Regional Flood Control District for the next ten-year period.

Due to changes in Federal regulations, regional growth, flooding history, and CCRFCD project changes and objectives that have occurred since 1991, this Draft SEIS was also prepared for the CCRFCD's Master Plan to update the 1991 FEIS. This document will also assess impacts associated with the implementation of the Master Plan and subsequent updates.

DATES: Written comments on the Draft SEIS will be accepted for 60 days following the date of publication of the Notice of Availability by the Environmental Protection Agency in the Federal Register. Future meetings or hearings and any other public involvement activities will be announced at least 15 days in advance through public notices, media news releases, and/or mailings.

ADDRESSES: You may submit comments by any of the following methods:

• Web Site: www.blm.nv.gov.

• E-mail: agarcia@nv.blm.gov.

• Fax: (702) 515-5010.

• Mail: Bureau of Land Management, Las Vegas Field Office, 4701 North Torrey Pines Drive, Las Vegas, NV 89130-2301.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. Copies of the Draft Supplemental Environmental Impact Statement for the Flood Control Master Plan, Clark County Regional Flood Control District are available in the Las Vegas Field Office at the above address.

FOR FURTHER INFORMATION CONTACT: For further information and/or to have your name added to our mailing list, contact Adrian A. Garcia, BLM, Las Vegas Field Office, telephone (702) 515-5089; email agarcia@nv.blm.gov, of Jeff Steinmitz at (702) 515-5097; e-mail jsteinme@nv.blm.gov.

SUPPLEMENTARY INFORMATION: The changing needs and interests of the public and the growth within the Las Vegas Valley necessitates a revision to the Flood Control Master Plan FEIS. Preliminary issues and management concerns have been identified by BLM and CCRFCD, their consultant, and other agencies, and represent the BLM's current information on existing issues and management concerns. The major issue themes that will be addressed in the Draft SEIS include: Impacts to surface water hydrology and water quality; protection of federally-listed species, State-listed species, and BLM sensitive species; minimizing impacts to air quality; minimizing visibility impacts; balancing conflicting and compatible land uses; protection of cultural and paleontological resources; cumulative impacts of the project; and the creation of a new project-specific analysis procedure for future flood control facilities.

Dated: April 13, 2004.
Sharon DiPinto,
Assistant Field Manager, Division of Lands.

[FR Doc. 04-8760 Filed 4-16-04; 8:45 am]

BILLING CODE 4310-HC-M